DEPARTMENT OF HEALTH AND HUMAN SERVICES (DHHS)

Administration for Children and Families (ACF)

[Program Announcement CFDA Number 93.604]

Discretionary Funds for Assistance for Treatment of Torture Survivors

AGENCY: Office of Refugee Resettlement (ORR), ACF, DHHS.

ACTION: Request for applications for services to victims of torture, including medical and psychological services; legal and social services; and research and training for health care providers outside of treatment centers to enable the provision of services to victims of torture.

SUMMARY: The Office of Refugee Resettlement (ORR), Administration for Children and Families (ACF), announces that competing applications will be accepted for Category I—“Treatment and Services for Torture Survivors,” grants to provide assistance to victims of torture, including treatment for the physical and psychological effects of torture; and social and legal services, and Category II—“Technical Assistance for Treatment and Service Providers for Torture Survivors,” a cooperative agreement for one organization to provide technical assistance such as research and training activities for the torture treatment centers and other health care providers.

DATES: The closing date for submission of applications is May 15, 2000. See Part IV of this announcement for more information on submitting applications.

ANNOUNCEMENT AVAILABILITY: The program announcement and the application materials are available from Marta Brenden, Office of Refugee Resettlement (ORR) 370 L'Enfant Promenade, SW, Washington DC 20447 and from the ORR website at www.acf.dhhs.gov/programs/orr.

FOR FURTHER INFORMATION CONTACT: Marta Brenden, Refugee Program Specialist, Division of Community Resettlement, Office of Refugee Resettlement, Tel (202) 205-3589, Fax (202) 401-5772, MBrenden@ACF.DHHS.GOV.

SUPPLEMENTARY INFORMATION: This program announcement consists of four parts:

Part I: Background and General Information—background, purpose and objectives, legislative authority, funding availability, CFDA Number, eligible applicants, project and budget periods.

Part II. General Instructions for Preparing a Full Project Description

Part III: The Review Process—intergovernmental review, initial ACF screening, evaluation criteria and competitive review.

Part IV: The Application—application development, application submission, certifications, and applicable regulations and reporting requirements.

Paperwork Reduction Act of 1995 (Pub. L. 104-13): Public reporting burden for this collection of information is estimated to average 30 hours per response, including the time for reviewing instructions, gathering and maintaining the data needed, and reviewing the collection of information. The following information collection is included in the program announcement: OMB Approval No. 0970-0139, ACF UNIFORM PROJECT DESCRIPTION (UPD), which expires 10/31/2000. An agency may not conduct or sponsor, and a person is not required to respond to a collection of information unless it displays a currently valid OMB control number.

Part I. Background and General Information

Background

Torture and Torture Victims

The psychosocial and health consequences of violence and traumatic stress have emerged as one of the public health problems of our time. Torture constitutes one of the most extreme forms of trauma, with the potential for long-term psychological and physical suffering. The term torture has been defined in different ways by different organizations and for different purposes. The two most commonly used definitions of torture were formulated by the World Health Organization (WHO) and by the United Nations (UN). The WHO, which governs professional standards and ethics for physicians, developed its definition in 1975; it is frequently called the “Declaration of Tokyo,” and it represents a popular definition among the medical community. It defines torture as:

“* * * the deliberate, systematic or wanton infliction of physical or mental suffering by one or more persons acting alone or on the orders of any authority, to force another person to yield information, to make a confession, or for any other reason.”

The UN definition, developed at the same time and revised in 1989, narrows the concept of torture somewhat by adding the legal and political responsibilities of governments. It states:

* * * the term ‘torture’ means any act by which severe pain or suffering, whether physical or mental, is intentionally inflicted on a person for such purposes as obtaining from him or, a third person, information or a confession, punishing him for an act he or a third person has committed, or intimidating or coercing him or a third person for any reason based on discrimination of any kind, when such pain or suffering is inflicted by or at the instigation of or with the consent or acquiescence of a public official or other person acting in an official capacity. It does not include pain or suffering arising only from, inherent in or incidental to lawful sanctions.

The United States “Torture Victims Relief Act of 1998” uses the definition of torture given the term in 18 U.S.C. 2340(l) and “includes the use of rape and other forms of sexual violence by a person acting under the color of law upon another person under his custody or physical control.” The definition of “torture” at 18 U.S. C. 2340(l) provides that: torture means an act committed by a person under the color of law specifically intended to inflict severe physical or mental pain or suffering (other than pain or suffering incidental to lawful sanctions) upon another person within his custody or physical control;

This provision also defines the term “severe mental pain or suffering” as: the prolonged mental harm caused by or resulting from—

(A) The intentional infliction or threatened infliction of severe physical pain or suffering;

(B) The administration or application, or threatened administration or application, of mind-altering substances or other procedures calculated to disrupt profoundly the senses or the personality;

(C) The threat of imminent death; or

(D) The threat that another person will imminently be subjected to death, severe physical pain or suffering, or the administration or application of mind-altering substances or other procedures calculated to disrupt profoundly the senses or personality.

It should be emphasized that, for purposes of this announcement, the experience of torture may include specific characteristics of torture as documented in personal testimony or in clinical, medical, or detention settings. Some specific examples of physical and psychological types of torture are: systemic beating, sexual torture, electrical torture, suffocation, burning, bodily suspension, pharmacological torture, mutilations, dental assaults, deprivation and exhaustion, threats about the use of torture, witnessing the torture of others, humiliation, and isolation.

Estimates of the number of torture survivors have been established primarily by extrapolating from the major populations at risk—refugees and internally displaced persons. In 1997, there were estimated to be more that 13,600,000 refugees and asylum seekers in the world and 20 million internally displaced persons. The estimates of refugees, asylum seekers and displaced persons who have been tortured vary widely from 5% to 35%. This announcement, which focuses on health, social and legal services for torture survivors, as well as education and training of providers, recognizes that torture may have been an experience of many members of groups residing in the United States, including refugees, asylees, immigrants, other displaced persons, and U.S. citizens. Using data cited above, it has been estimated that there may be more than 400,000 torture survivors in the United States.

Consequences of Torture and Services for Torture Survivors

Physical consequences of torture may be extensive and severe. Specific neuropsychological symptoms are often difficult to diagnose because of head injuries and the multiplicity of symptoms. Post-traumatic stress disorder, depression, substance abuse, and other anxiety disorders are common diagnoses among torture survivors. Therefore, for many severely tortured individuals, access to medical practitioners and sophisticated diagnostic instruments and testing (e.g., neuro-imaging, cognitive functions, etc.), for the purpose of differential diagnosis, is paramount.

A high percentage of torture survivors are in need of social and legal services. Access to legal and immigration services is usually a priority. Social services, such as employment assistance and training, are also extremely important and correlate with successful psychosocial adjustment and well-being. From the national experience with refugees and survivors of wartime violence, it has been demonstrated that early and adequate access to social and legal services may also preclude the need for more specialized psychological treatment services.

The torture rehabilitation and treatment center movement, which was established in Denmark in the 1970's, and adopted in the US, Canada, France and other countries, has led to the growth of specialized torture survivor treatment centers in select parts of the nation. Although the treatment center movement has created opportunities for treatment and training in specific urban areas, many torture survivors do not have access to these highly specialized programs. Medical, social and legal services for torture survivors are needed in areas and in settings and institutions wherever torture survivors will seek assistance. Thus there is also a national need for more broad-based training of medical and mental health practitioners in the identification, diagnosis and treatment of torture survivors.

Torture survivors, now in the United States, should be provided with the rehabilitation services which would enable them to become productive community members. The Torture Victims Relief Act of 1998 provides for services for the treatment of the psychological and physical effects of torture, social and legal services for torture survivors, and research and training for health care providers.

Purpose and Objectives

The Office of Refugee Resettlement (ORR), Administration for Children and Families (ACF) intends to fund grant applications for 10-15 organizations to provide assistance to victims of torture, and for one organization under a cooperative agreement to provide technical assistance, such as research and training to the torture treatment centers, social and legal service providers and health care providers.

Applications should be clearly labeled for either Category I—Treatment and Services for Torture Survivors or Category II—Technical Assistance for Treatment Centers and Service Providers for Torture Survivors. Under the cooperative agreement for technical assistance Category II, ORR intends to review and approve: (1) proposed plan for technical assistance activities, (2) schedule, location, and individual treatment centers and community-based agencies where site visits will be conducted, (3) training and research plans, and (4) locations of proposed workshops.

Not all torture survivors have the same medical, psychological, social, or legal needs, and services funded under this announcement should reflect diverse populations to be targeted and services to be provided. This is particularly true when considering conventional psychological services. It is emphasized that, within the clinical, social and legal service domains, proposals are encouraged that will address a broad menu of services for torture survivors and may include collaborative relationships. Partnerships are encouraged among several organizations in order to provide a comprehensive program of services. For example, an organization that currently provides legal advice to detained asylum seekers, who are torture survivors, might collaborate with another social service or clinical organization to pool resources and expand their range of services.

Legislative Authority

In October 1998, Congress enacted the “Torture Victims Relief Act of 1998,” Pub. Law 105-320 (22 U.S.C. 2152 note). As stated in Sec. 5 (a) ASSISTANCE FOR TREATMENT OF TORTURE VICTIMS—The Secretary of Health and Human Services may provide grants to programs in the United States to cover the cost of the following services:

(1) Services for the rehabilitation of victims of torture, including treatment of the physical and psychological effects of torture.

(2) Social and legal services for victims of torture.

(3) Research and training for health care providers outside of treatment centers, or programs for the purpose of enabling such providers to provide the services described in paragraph (1).

In November 1999, Congress enacted the “Torture Victims Relief Reauthorization Act of 1999,” Pub. Law 106-87 (22 U.S. C. 2151 note).

Funding Availability

Congress appropriated $7,500,000 for carrying out section 5 of the Torture Victims Relief Act of 1998. Department of Health and Human Services Appropriations Act, 2000, as enacted by section 1000(a)(4) of the Consolidated Appropriations Act, 2000 (Pub. L. 106-113). As a result of a rescission of approximately 3%, the funds available under this program announcement total $7,265,000 for the federal fiscal year 2000. ORR anticipates making 10-15 grants in the amounts of $500,000-$750,000 and making a cooperative agreement for technical assistance for approximately $300,000.

Applications for subsequent year continuation grants funded under these awards will be entertained on a non-competitive basis, subject to the availability of funds, satisfactory progress of the grantee, and a determination that continued funding would be in the best interest of the Government.

CFDA Number: 93.604.

Eligible Applicants

Eligible applicants are public or private organizations and institutions.

Project and Budget Periods

Under this announcement, ORR solicits applications for Category I for approximately 10-15 grants to provide assistance to survivors of torture for up to 4 years with successive one year budget periods and for Category II one cooperative agreement to provide technical assistance for up to 4 years to torture treatment centers, social and legal service providers and health care providers.

Part II. General Instructions for Preparing a Full Project Description

Purpose

The project description provides a major means by which an application is evaluated and ranked to compete with other applications for available assistance. The project description should be concise and complete and should address the activity for which Federal funds are being requested. Supporting documents should be included where they can present information clearly and succinctly. Applicants are encouraged to provide information on their organizational structure, staff, related experience, and other information considered to be relevant. Awarding offices use this and other information to determine whether the applicant has the capability and resources necessary to carry out the proposed project. It is important, therefore, that this information be included in the application. However, in the narrative the applicant must distinguish between resources directly related to the proposed project from those that will not be used in support of the specific project for which funds are requested.

General Instructions

Cross-referencing should be used rather than repetition. ACF is particularly interested in specific factual information and statements of measurable goals in quantitative terms. Project descriptions are evaluated on the basis of substance, not length. Extensive exhibits are not required. (Supporting information concerning activities that will not be directly funded by the grant or information that does not directly pertain to an integral part of the grant funded activity should be placed in an appendix.) Pages should be numbered and a table of contents should be included for easy reference.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, an applicant might describe torture survivors and the benefits to the survivors of the proposed services.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of microloans made. For an example of the approach in providing services to torture survivors, the applicant might provide quantitative monthly or quarterly projections of clients taken into service and the number of clinical, social or legal interventions. When accomplishments cannot be quantified by activity or function, list them in chronological order to show the schedule of accomplishments and their target dates.

Identify the kinds of data to be collected, maintained, and/or disseminated. Note that clearance from the U.S. Office of Management and Budget might be needed prior to a “collection of information” that is “conducted or sponsored” by ACF. List organizations, cooperating entities, consultants, or other key individuals who will work on the project along with a short description of the nature of their effort or contribution.

Geographic Location

Describe the precise location of the project and boundaries of the area to be served by the proposed project. Maps or other graphic aids may be attached.

Staff and Position Data

Provide a biographical sketch for each key person appointed and a job description for each vacant key position. A biographical sketch will also be required for new key staff as appointed.

Organization Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Dissemination Plan

Provide a plan for distributing reports and other project outputs to colleagues and the public. Applicants must provide a description of the kind, volume and timing of distribution.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: Costs of tangible, non-expendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

self explanatory

Part III. The Review Process

Intergovernmental Review: State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs.

Note: State/Territory participation in the intergovernmental review process does not signify applicant eligibility for financial assistance under a program. A potential applicant must meet the eligibility requirements of the program for which it is applying prior to submitting an application to its SPOC, if applicable, or to ACF.

In accordance with Executive Order #12372, “Intergovernmental Review of Federal Programs,” this listing represents the designated State Single Points of Contact. The jurisdictions not listed no longer participate in the process but grant applicants are still eligible to apply for the grant even if your state, territory, commonwealth, etc. does not have a “State Single Point of Contact.” Jurisdictions without “State Single Points of Contacts” include: Alabama; Alaska; American Samoa; Colorado; Connecticut; Kansas; Hawaii; Idaho; Louisiana; Massachusetts; Minnesota; Montana; Nebraska; New Jersey; Ohio; Oklahoma; Oregon; Palau; Pennsylvania; South Dakota; Tennessee; Vermont; Virginia; and Washington.

This list is based on the most current information provided by the States. Information on any changes or apparent errors should be provided to the Office of Management and Budget and the State in question. Changes to the list will only be made upon formal notification by the State. Also, this listing is published biannually in the Catalogue of Federal Domestic Assistance.

Jurisdictions that participate in the Executive Order process have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards. SPOCs are encouraged to eliminate the submission of routine endorsements as official recommendations. Additionally, SPOCs are requested to clearly differentiate between mere advisory comments and those official State process recommendations which may trigger the “accommodate or explain” rule. When comments are submitted directly to ACF, they should be addressed to: Department of Health and Human Services, Administration for Children and Families, Office of Refugee Resettlement, 370 L'Enfant Promenade SW, 6th Floor, Washington DC, 20447 ATTN: Ms. Daphne Weeden.

A list of the Single Points of Contact for each State and Territory is included in this announcement.

OMB State Single Point of Contact Listing

Arizona

Joni Saad, Arizona State Clearinghouse, 3800 N. Central Avenue, Fourteenth Floor, Phoenix, Arizona 85012, Telephone: (602) 280-1315, FAX: (602) 280-8144, e-mail: jonis@ep.state.az.us

Arkansas

Mr. Tracy L. Copeland, Manager, State Clearinghouse, Office of Intergovernmental Services, Department of Finance and Administration, 1515 W. 7th St., Room 412, Little Rock, Arkansas 72203, Telephone: (501) 682-1074, FAX: (501) 682-5206

California

Grants Coordinator, Office of Planning and Research/State Clearinghouse, 1400 Tenth Street, Room 121, Sacramento, California 95814, Telephone: (916) 323-7480, FAX: (916) 323-3018,

Delaware

Francine Booth, State Single Point of Contact, Executive Department, Office of the Budget, 540 S. duPont Highway, Suite 5, Dover, Delaware 19901, Telephone: (302) 739-3326, FAX: (302) 739-5661

District of Columbia

Charles Nichols, State Single Point of Contact, Office of Grants Management and Development, 717 14th Street, NW—Suite 1200, Washington, DC 20005, Telephone: (202) 727-6537, FAX: (202) 727-1617, e-mail: charlesnic@yahoo.com or cnichols-ogmd@dcgov.org

Florida

Cherie L. Trainor, Coordinator, Florida State Clearinghouse, Department of Community Affairs, 2555 Shumard Oak Boulevard, Tallahassee, Florida 32399-2100, Telephone: (850) 922-5438 or (850) 414-5495, FAX: (850) 414-0479, e-mail: cherie.trainor@dca.state.fl.us

Georgia

Debra S. Stephens, Coordinator, Georgia State Clearinghouse, 270 Washington, Street, SW—8th Floor, Atlanta, Georgia 30334, Telephone: (404) 656-3855, FAX: (404) 656-7901, e-mail: ssda@mail.opb.state.ga.us

Illinois

Virginia Bova, State Single Point of Contact, Illinois Department of Commerce and Community Affairs, James R. Thompson Center, 100 West Randolph, Suite 3-400, Chicago, Illinois 60601, Telephone: (312) 814-6028, FAX: (312) 814-1800

Indiana

Frances Williams, State Budget Agency, 212 State House, Indianapolis, Indiana 46204-2796, Telephone: (317) 232-5619, FAX: (317) 233-3323

Iowa

Steven R. McCann, Division for Community Assistance, Iowa Department of Economic Development, 200 East Grand Avenue, Des Moines, Iowa 50309, Telephone: (515) 242-4719, FAX: (515) 242-4809

Kentucky

Kevin J. Goldsmith, Director, John-Mark Hack, Deputy Director, Sandra Brewer, Executive Secretary, Intergovernmental Affairs, Office of the Governor, 700 Capitol Avenue, Frankfort, Kentucky 40601, Telephone: (502) 564-2611, FAX: (502) 564-2849

Maine

Joyce Benson, State Planning Office, 184 State Street, 38 State House Station, Augusta, Maine 04333, Telephone: (207) 287-3261, FAX: (207) 287-6489

Maryland

Linda C. Janey, JD, Manager, Clearinghouse and Plan Review Unit, Maryland Office of Planning, 301 W. Preston Street—Room 1104, Baltimore, Maryland 21201-2305, Telephone: (410) 767-4491, FAX: (410) 767-4480, e-mail: Linda@mail.op.state.md.us

Michigan

Richard Pfaff, Southeast Michigan Council of Governments, 660 Plaza Drive—Suite 1900, Detroit, Michigan 48226, Telephone: (313) 961-4266, FAX: (313) 961-4869

Mississippi

Cathy Mallette, Clearinghouse Officer, Department of Finance and Administration, 455 North Lamar Street, Jackson, Mississippi 39202-3087, Telephone: (601) 359-6762, FAX: (601) 359-6764

Missouri

Lois Pohl/Carol Meyer, Federal Assistance Clearinghouse, Office Of Administration, P.O. Box 809, Room 915, Jefferson Building, Jefferson City, Missouri 65102, Telephone: (573) 751-4834, FAX: (573) 522-4395

Nevada

Heather Elliott, Department of Administration, State Clearinghouse Capitol Complex, Carson City, Nevada 89710, Telephone: (702) 687-6367, FAX: (702) 687-3983

New Hampshire

Jeffrey H. Taylor, Director, New Hampshire Office of State Planning, Attn: Intergovernmental Review Process; Mike Blake, Office of State Planning, 2½ Beacon Street, Concord, New Hampshire 03301, Telephone: (603) 271-2155, FAX: (603) 271-1728

New Mexico

Nick Mandell, Local Government Division, Room 201, Bataan Memorial Building, Santa Fe, New Mexico 87503, Telephone: (505) 827-4991, FAX: (505) 827-4948

New York

New York State Clearinghouse, Division of the Budget, State Capitol, Marsha Roth, Albany, New York 12224, Telephone: (518) 474-1605, FAX: (518) 486-5617

North Carolina

Chrys Baggett, Director, North Carolina State Clearinghouse, Office of the Secretary of Administration, 116 West Jones Street—Suite 5106, Raleigh, North Carolina 27603-8003, Telephone: (919) 733-7232, FAX: (919) 733-9571

North Dakota

Jim Boyd, North Dakota Single Point of Contact, Office of Intergovernmental Assistance, 600 East Boulevard Avenue, Department 105, Bismarck, North Dakota 58505-0170, Telephone: (701) 328-2094, FAX: (701) 328-2308

Rhode Island

Kevin Nelson, Review Coordinator, Department of Administration, Division of Planning, One Capitol Hill, 4th Floor, Providence, Rhode Island 02908-5870, Telephone: (401) 222-2656, FAX: (401) 222-2083

South Carolina

Omegia Burgess, State Single Point of Contact, Budget and Control Board, Office of State Budget, 1122 Ladies Street—12th Floor, Columbia, South Carolina 29201, Telephone: (803) 734-0494, FAX: (803) 734-0645

Texas

Tom Adams, Single Point of Contact, State of Texas, Governor's Office of Budget and Planning, Director, Intergovernmental Coordination, P.O. Box 12428, Austin, Texas 78711-2428, Telephone: (512) 463-1771, FAX: (512) 936-2681, e-mail: tadams@governor.state.tx.us

Utah

Carolyn Wright, Utah State Clearinghouse, Office of Planning and Budget, Room 116 State Capitol, Salt Lake City, Utah 84114, Telephone: (801) 538-1535, FAX: (801) 538-1547

West Virginia

Judith Dryer, Chief Program Manager, West Virginia Development Office, Building #6, Room 645, State Capitol, Charleston, West Virginia 25305, Telephone: (304) 558-0350, FAX: (304) 558-0362,

Wisconsin

Jeff Smith, Section Chief, State/Federal Relations, Wisconsin Department of Administration, 101 East Wilson Street—6th, Floor P.O. Box 7868, Madison, Wisconsin 53707, Telephone: (608) 266-0267, FAX: (608) 267-6931

Wyoming

Matthew Jones, State Single Point of Contact, Office of the Governor, 200 West 24th Street, State Capital, Room 124, Cheyenne, Wyoming 82002, FAX: (307) 632-3909

Territories

Guam Mr. Giovanni T. Sgambelluri, Director, Bureau of Budget and Management Research, Office of the Governor, P.O. Box 2950, Agana, Guam 96910, Telephone: 011-671-472-2285, FAX: 011-671-472-2825

Puerto Rico

Norma Burgos/Jose E. Caro, Chairwoman/Director, Puerto Rico Planning Board, Federal Proposals Review Office, Minillas Government Center, P.O. Box 41119, San Juan, Puerto Rico 00940-1119, Telephone: (809) 727-4444 or (809) 723-6190, FAX: (809) 724-3270 or (809) 724-3103.

Northern Mariana Islands

Mr. Alvaro A. Santos, Executive Officer, Office of Management and Budget, Office of the Governor, Saipan, MP 96950, Telephone: (670) 664-2256, FAX: (670) 664-2272.

Please direct all questions and correspondence about intergovernmental review to: Ms. Jacoba T. Seman, Federal Programs Coordinator, Telephone: (670) 664-2289, FAX: (670) 664-2272.

Virgin Islands

Nellon Bowry, Director, Office of Management and Budget, #41 Norregade Emancipation Garden Station, Second Floor, Saint Thomas, Virgin Islands 00802.

Please direct all questions and correspondence about intergovernmental review to: Daisey Millen, Telephone: (809) 774-0750, FAX: (809) 776-0069.

Initial ACF Screening

Each application submitted under this program announcement will undergo a pre-review to determine that (1) The application was received by the closing date and submitted in accordance with the instructions in this announcement and (2) the applicant is eligible for funding.

Competitive Review and Criteria

Applications which pass the initial ACF screening will be evaluated and rated by an independent review panel on the basis of specific evaluation criteria. The evaluation criteria are designed to assess the quality of a proposed project, and to determine the likelihood of its success. The evaluation criteria are closely related and are considered as a whole in judging the overall quality of an application. Points are awarded only to applications which are responsive to the evaluation criteria within the context of this program announcement.

Please Note: Applicants are reminded to appropriately label their application as Category I—“Treatment and Services for Torture Survivors” or Category II—“Technical Assistance for Treatment and Service Providers for Torture Survivors.” An organization may apply to both categories but must submit separate applications, one for each category.

Review Criteria

Category I—Applications for Treatment and Services for Torture Survivors Will Be Reviewed and Ranked Against the Following Criteria

1. Objectives and Need for Assistance. The application clearly demonstrates knowledge of eligible clients, including: a.) A reasonable statement of the eligibility criteria for the intake assessment (attach the assessment form) and an understanding of eligibility by providing descriptive examples of individual torture survivors and the families that accompany them, description of the circumstances that resulted in torture (such as presenting the applicant's understanding of the political and social context in which the torture was administered); b.) Demographic details of the eligible population of torture survivors, including the number, nationality and ethnicity in the applicant's geographic service area; and c.) access to clients by adequately discussing issues of client's trust in the applicant organization, the likelihood of referral from other organizations, and outreach activities. (15 points)

2. Approach. The application provides a clear and feasible strategy for assistance to torture survivors, including: a.) client assessment strategy to determine which services are appropriate for the individual/family (e.g., not all clients will need all services, rather each client should be assessed for which social, legal, medical and psychological services are relevant to the client's circumstances); b.) goal and purpose of the assistance for the client/family; c.) description of medical, psychological, social and legal services and client access to services, such as location of treatment, proximity to communities where prospective clients live, and means of transportation that makes services accessible; and d.) established partnerships with community-based public and private agencies that participate in the provision of services to the client/family, for example, government and private organizations such as income maintenance, advocacy, immigration, recreational, public health, microenterprise, or whatever agency may be needed by the client/family with attachments that document the partnerships with memorandums of understandings (MOUs), letters of intent from partners, and plans for financial needs/arrangements for client support. (25 points)

3. Organization Profiles. The application demonstrates the organization's capacity to provide assistance appropriate to torture survivors and includes: (a.) Agency mission and organizational chart; (b.) resumes of project staff demonstrating linguistic and cultural access for clients; (c.) history of experience with torture survivors, such as experience as a treatment center or an organization that provides social and legal services to survivors of torture; (d.) management plan for the project contains systems of client records, program records, and financial management; and (e.) timeline for implementation of project activities. (25 points)

4. Results or Expected Benefits. The outcomes and benefits of the assistance are clearly explained and are reasonable. There are clear and understandable outcome measures for the services, and a reasonable plan for reporting the outcomes to ORR. (25 points)

5. Budget and Budget Justification. The budget is reasonable and clearly justified. The methodologies for estimating the number of client/patients to be served are reasonable. The plan for obtaining funds from Medicaid, Refugee Medical Assistance (RMA), and private health coverage for client fees for treatment, when available, is appropriate, informed and viable. (10 points)

Category II—Applications for the Cooperative Agreement To Provide Technical Assistance to the Treatment Centers and Health Care Providers Will Be Reviewed and Ranked Against the Following Criteria

1. Objectives and Need for Assistance. The applicant clearly demonstrates knowledge of and access to treatment organizations providing services to torture survivors. The applicant also demonstrates a clear understanding of the nature and extent of technical assistance needed by the treatment facilities. (15 points)

2. Approach. The application provides a clear and feasible plan for providing technical assistance to approximately 15 treatment facilities. The application provides a clear and feasible strategy and persuasive explanation for technical assistance activities such as research to support training of medical, mental health, social service, and legal services, including: goals and objectives of the training and research; number of training sessions, curriculum for training; access to the targeted participants (such as, organizations and professionals whose services will be improved by training) (25 points)

3. Organization Profiles. The application demonstrates that it has the necessary staff and organization capabilities for providing technical assistance to treatment facilities and includes: a.) agency mission and organizational chart; b.) resumes of project staff demonstrating appropriate professional background and work experience with torture survivors; c.) management plan for the project contains plans for reports, program records, and financial management; and d.) timeline for implementation of project activities. (25 points)

4. Results and Expected Benefits. The outcomes and benefits of the assistance are clearly explained and are reasonable. There are clear and understandable outcome measures for the technical assistance and training, and a plan for reporting the outcomes to ORR. (25 points)

5. Budget and Budget Justification. The budget is reasonable and clearly justified. (10 points)

Part IV. Application Submission

Application Development

In order to be considered for a grant under this program announcement, an application must be submitted on the forms supplied and in the manner prescribed by ACF. Application materials including forms and instructions are available from the contact named under the “Announcement Availability” section in the preamble of this announcement. It is required that the application indicate on the SF-424 Item 11. “Descriptive Title of Applicant's Project” the category for which the application is to be considered.

Each application should include one signed original and two additional copies.

Each application narrative portion should not exceed 25 double-spaced pages in a 12-pitch font. Attachments and appendices should not exceed 25 pages and should be used only to provide supporting documentation such as maps, administration charts, position descriptions, resumes, and letters of intent for partnership agreements. Please do not include books or video tapes as they are not easily reproduced and are therefore, inaccessible to the reviewers. Each page should be numbered sequentially, including the attachments or appendices.

Funding Reconsideration

After Federal funds are exhausted for this grant competition, applications which have been independently reviewed and ranked but have no final disposition (neither approved nor disapproved for funding) may again be considered for funding. Reconsideration may occur at any time funds become available within twelve (12) months following ranking. However, ACF does not select from multiple ranking lists for a program. Therefore, should a new competition be scheduled and an application remain ranked without final disposition, applicants are informed of their opportunity to reapply for the new competition, to the extent practical.

Application Deadlines

The closing date for submission of applications is May 15, 2000. Mailed applications postmarked after the closing date will be classified as late.

Deadline: Mailed applications shall be considered as meeting an announced deadline if they are either received on or before the deadline date or sent on or before the deadline date and received by ACF in time for the independent review to: U.S. Department of Health and Human Services, Administration for Children and Families, Office of Refugee Resettlement, Attention: Ms. Daphne Weeden.

Applicants must ensure that a legibly dated U.S. Postal Service postmark or a legibly dated machine produced postmark of a commercial mail service is affixed to the envelope/package containing the application(s). To be acceptable as proof of timely mailing, a postmark from a commercial mail service must include the logo/emblem of the commercial mail service company and must reflect the date the package was received by the commercial mail service company from the applicant. Private Metered postmarks shall not be acceptable as proof of timely mailing. (Applicants are cautioned that express/overnight mail services do not always deliver as agreed.)

Applications handcarried by applicants, applicant couriers, or by other representatives of the applicant shall be considered as meeting an announced deadline if they are received on or before the deadline date, between the hours of 8:00 a.m. and 4:30 p.m., EST, at the U.S. Department of Health and Human Services, Administration for Children and Families, the Office of Refugee Resettlement, 6th Floor, Aerospace Building, 901 D Street, SW, Washington, DC 20447 between Monday and Friday (excluding Federal holidays). The address must appear on the envelope/package containing the application with the note “Attention: Ms. Daphne Weeden.” (Applicants are cautioned that express/overnight mail services do not always deliver as agreed.)

ACF cannot accommodate transmission of applications by fax or through other electronic media. Therefore, applications transmitted to ACF electronically will not be accepted regardless of date or time of submission and time of receipt.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

For Further Information Contact:Ms. Daphne Weeden, Administration for Children and Families, Office of Refugee Resettlement, 370 L'Enfant Promenade SW, 6th Floor, Washington, DC 20447, (202) 401-4577.

Standard Language Concerning the Certifications, Assurances, and Disclosure Required for Non Construction Programs

Applicants requesting financial assistance for non construction projects must file the Standard Form 424B, “Assurances: Non-Construction Programs.” Applicants must sign and return the Standard Form 424B with their applications. Applicants must provide a certification regarding lobbying when applying for an award in excess of $100,000. Applicants must sign and return the certification with their applications.

Applicants must disclose lobbying activities on the Standard Form LLL when applying for an award in excess of $100,000. Applicants who have used non Federal funds for lobbying activities in connection with receiving assistance under this announcement shall complete a disclosure form to report lobbying. Applicants must sign and return the disclosure form, if applicable, with their applications.

Applicants must make the appropriate certification of their compliance with the Drug Free Workplace Act of 1988. By signing and submitting the application, the applicant is providing the certification and need not mail back the certification with the applications.

Applicants must make the appropriate certification that they are not presently debarred, suspended or otherwise ineligible for an award. By signing and submitting the application, the applicant is providing the certification and need not mail back the certification with the applications.

Applicable Regulations and Reporting Requirements

1. Applicable Regulations

Applicable DHHS regulations can be found in 45 CFR Part 74 or Part 92.

2. Reporting Requirements

Grantees are required to file the Financial status Report (SF-269) and Program Performance Reports on a semi-annual basis. Funds issued under these awards must be accounted for and reported upon separately from all other grant activities. ORR does not expect the proposed components/projects to include evaluation activities, it does expect grantees to maintain adequate records to track and report on project outcomes. The official receipt point for all reports and correspondence is the ORR Grants Officer. An original and one copy of each report shall be submitted within 30 days of the end of each reporting period directly to the Grants Officer. The mailing address is: Ms. Daphne Weeden, Administration for Children and Families, Office of Refugee Resettlement, 370 L'Enfant Promenade SW, 6th Floor, Washington, DC 20447. A final Financial and Program Report shall be due 90 days after the budget expiration date or termination of grant support.

Dated: March 13, 2000.
Lavinia Limón,
Director, Office of Refugee Resettlement.

[FR Doc. 00-6661 Filed 3-16-00; 8:45 am]

BILLING CODE 4184-01-P